TENNESSEE VALLEY AUTHORITY

Tellico Reservoir Land Management Plan, Blount, Loudon, and Monroe Counties, TN

AGENCY: Tennessee Valley Authority (TVA).

ACTION: Issuance of record of decision.

SUMMARY: This notice is provided in accordance with the Council on Environmental Quality's regulations (40 CFR parts 1500 to 1508) and TVA's procedures implementing the National Environmental Policy Act. On August 29, 2000, the TVA Board of Directors decided to adopt the preferred alternative (Allocation Alternative) identified in its Final Environmental Impact Statement (EIS), Tellico Reservoir Land Management Plan.

The Final EIS was made available to the public in July, 2000. A Notice of Availability of the Final EIS was published in the Federal Register on July 7, 2000. Under the Allocation Alternative, TVA seeks to provide a clear statement on how it will manage its lands, based on scientific, cultural, and economic principles. The plan and EIS cover 12,643 acres of TVA lands on Tellico Reservoir. About half (6,103 acres) of the land is currently committed to specific uses, which would be continued. The remaining 6,540 acres have no outstanding commitments and their use is determined in the plan. The total 12,643 acres is allocated as follows: 9,321 acres for natural resource conservation and management; 635 acres for TVA project operations and public works; 331 acres for industrial and commercial development uses; 1,804 acres for recreation developments; and 552 acres for shoreline residential access.

FOR FURTHER INFORMATION CONTACT: Charles P. Nicholson, NEPA Specialist, Environmental Policy and Planning, Tennessee Valley Authority, 400 West Summit Hill Drive, WT 8C, Knoxville, Tennessee 37902-1499; telephone (865) 632-3592 or email cpnicholson@tva.gov.

SUPPLEMENTARY INFORMATION: During the development of the Tellico Project, TVA purchased about 37,737 acres of land. About 13,943 acres are normally covered by water during the summer, resulting in a reservoir pool with 360.8 miles of shoreline. About 11,150 acres of the remaining project lands were sold to the Tellico Reservoir Development Agency (TRDA) in November 1982. TVA has since entered into agreements for the use of about half the remaining lands. The management of the lands retained under TVA's control, as well as the lands sold to TRDA, is prescribed by the land plan included in a 1982 joint agreement (Contract No. TV-60000A) between TVA and TRDA.

In its 1999 Record of Decision on its Shoreline Management Initiative (SMI) Final EIS, TVA committed to developing comprehensive land management plans for all its reservoirs. These plans are intended to integrate land and water benefits, provide for the optimum public benefit, and balance competing, and sometimes, conflicting resource uses. In doing so, these plans will provide a clear statement of how TVA manages reservoir lands and identify the specific uses of individual land parcels.

TVA began public scoping and preparation of this plan in 1997. In late 1998, TVA determined that an EIS would be the appropriate level of environmental review. TVA then issued a Notice of Intent to prepare an EIS on January 14, 1999, and held a public scoping meeting two weeks later. The Notice of Availability for the Draft EIS was published on March 17, 2000. TVA subsequently held a public meeting in Lenoir City, Tennessee on March 28, 2000, to solicit comments on the Draft plan and EIS. Written and oral comments on the EIS were received from 36 parties. The Notice of Availability for the Final EIS was published on July 7, 2000.

Alternatives Considered

TVA considered two alternatives for planning the uses of 12,643 acres of Tellico Reservoir lands. A third alternative, which included the use of 850 acres of TVA land for a commercial development proposed by Tellico Landing, Inc., was dropped after the TVA Board announced on March 15, 1999, that it would not consider this proposal.

Under both alternatives, TVA would implement the categorization of residential and flowage easement shoreline, as defined in the SMI. The results of this categorization are as follows: Shoreline Protection, 1 mile; Residential Mitigation, 38 miles; and Managed Residential, 23 miles. TVA would also continue existing land uses on lands transferred to TRDA and other parties, and continue existing land uses on 6,103 acres of TVA lands under easement or other committed long-term use. About 6,540 acres have no committed uses and are considered plannable lands.

Under Alternative A, the No Action Alternative, TVA would continue to use the 1982 land use plan established by Contract No. TV-60000A with TRDA. The largest land use category is Cultural/Public Use/Open Space (61 percent of the area). Other categories include TVA Dam Reservation (5 percent), Natural/Wildlife (15 percent), Industrial Development (3 percent), Private Residential (3 percent), Recreation (11 percent), and Eastern Band of Cherokee Indians Memorial (1 percent).

Under Alternative B, the Allocation Alternative, TVA would adopt a new Reservoir Land Management Plan for 139 tracts of TVA land. The TVA lands would be allocated as follows: 5 percent for TVA project operations and public works; 17 percent for management of sensitive resources such as rare species, wetlands, and cultural resources; 56 percent for natural resource conservation, with emphasis on public use; 3 percent for industrial and commercial development; 14 percent for recreational uses, and 4 percent for residential shoreline access. In response to comments on the Draft EIS, the Allocation Alternative was slightly modified in the Final EIS by changing the proposed use of a 140-acre recreation tract to natural resource conservation. TVA identified the Allocation Alternative as the preferred alternative in both the Draft EIS and the Final EIS.

During the preparation of the Plan and EIS, TVA consulted with the Tennessee State Historic Preservation Officer (SHPO), The Eastern Band of Cherokee Indians (EB), the United Keetoowah Band, the Cherokee Nation of Oklahoma, The Tennessee Commission of Indian Affairs, the Muscogee (Creek) Nation of Oklahoma, and the Poarch Band of Creek Indians on the identification and evaluation of historic properties within the Area of Potential Effect for the land plan. TVA, TDEC, SHPO, and EB executed a Memorandum of Agreement, dated June 23, 2000, stipulating measures that will be carried out by TVA prior to the commencement of ground-disturbing activities or transfer of property rights. This agreement allows phased identification, evaluation, and treatment of historic properties, and ensures that the effects on historic properties of future activities undertaken in implementing the Tellico Reservoir Land Management Plan will be taken into account.

Response to Comments on Final EIS

Appendix A-2 of the Final EIS contains summaries of and responses to the comments TVA received on the Draft EIS. TVA received comments from 36 individuals and organizations.

The Environmental Protection Agency (EPA) commented on the Final EIS. EPA noted that TVA neglected to include the EPA rating of the Draft EIS. This rating was EC-2: Environmental Concerns with some modification of the Plan requested. EPA also asked for more information on prospective forest management activities on TVA lands. Forest management activities could be carried out on lands allocated for natural resource conservation to achieve TVA's objective of maintaining or enhancing ecological diversity. The Plan and Final EIS do not propose specific forest management activities. Such activities would, instead, be determined by tract-specific management plans developed with public and peer agency input and consideration of potential environmental impacts. Potential forest management activities could include timber harvesting by both clearcutting and selection methods, thinning, prescribed burns, and reforestation. Based on past experience, clearcutting of large areas is not expected. Forest management activities would likely occur on less than 100 acres of natural resource conservation lands each year and would include measures to protect the reservoir shoreline and prevent water quality degradation.

EPA asked whether TVA will monitor the number of people recreating in the area to help control their environmental impacts. TVA does not have any plans to formally monitor the number of people recreating in the area. However, TVA will continue to monitor the environmental conditions of the reservoir through its standard operations.

EPA also asked whether any residential development on reservoir lands will be consistent with the Shoreline Management Initiative Final EIS/Record of Decision. The implementation of the shoreline categorization component of the SMI is described above. Applicants for residential shoreline alterations would have to comply with the standards adopted in the SMI Record of Decision. In an initiative, unique to Tellico Reservoir, guidelines that are more restrictive than those in the SMI would be applied to the River Corridor area in view of the need to protect the sensitive resources in this area.

Decision

The TVA Board adopted the Tellico Reservoir Land Management Plan as described in Alternative B on August 29, 2000. Alternative B optimally balances recreation use, resource conservation needs, and residential shoreline access needs in a way that maintains the quality of life and other important values provided by Tellico Reservoir. Alternative B sets aside parcels containing sensitive resources and habitats in the Sensitive Resource Protection and Natural Resource Conservation categories. TVA is adopting commitments under Alternative B to further minimize the potential for adverse impacts to the environment. These commitments are listed below, under Environmental Commitments. With these mitigation measures, all practicable means to avoid or minimize environmental harm would have been adopted.

Environmentally Preferred Alternative

TVA has concluded that Alternative B is the environmentally preferable alternative. It allocates the majority of TVA lands to long-term resource conservation and management uses, provides for compatible recreation developments, and enhances the protection of the riverine portions of the reservoir.

Environmental Commitments

TVA is adopting the following measures to minimize environmental impacts:

• TVA will follow the procedures specified in the memorandum of agreement with the State Historic Preservation Officer for the identification, evaluation, and treatment of historic properties that are eligible for inclusion in the National Register of Historic Places.

• U.S. Fish and Wildlife Service guidelines will be used to establish and maintain buffer zones around bald eagle nests.

• The current practice of prohibiting the construction of water-use facilities and shoreline alterations within the marked limits of safety landings will be continued to avoid interference with commercial navigation.

• Noise covenants consistent with the guidelines described in Section 3.12.2. of the Final EIS will be included in land transfer instruments pertaining to parcels in Zone 5.

• Amenities provided in Coytee Springs Recreation Area (Parcel 10) (e.g. picnic areas, walking trails, and greenway entry/exit points) will be limited to day-time use.

• Guidelines proposed in Appendix B-1 of the Final EIS will be consulted in reviewing applications for water-use facilities on the River Corridor.

Dated: October 23, 2000.
Kathryn J. Jackson,
Executive Vice President, River System Operations & Environment.

[FR Doc. 00-28183 Filed 11-1-00; 8:45 am]

BILLING CODE 8120-08-U